DEPARTMENT OF THE INTERIOR

Bureau of Land Management

[CA-180-1200PA]

Closure and Restriction Order

AGENCY: Department of the Interior, Bureau of Land Management, Folsom Field Office, California.

SUMMARY: The Bureau of Land Management (BLM) is restricting the discharge of firearms and other weapons on approximately ten (10) acres of public land. This restriction will apply on public lands within Township 11 north, Range 10 east, section 18, the northeast quarter of the northwest quarter, Mount Diablo meridian, El Dorado County. The BLM is currently preparing a management plan for public lands adjacent to the South Fork of the American River and will encompass this particular property. However; the nature of the problems on this parcel demands interim action. This restriction will be in force upon publication in the Federal Register and will end on December 31, 2001. A long term solution will be decided within the plan. This area has been used as a recreational shooting area for many years. The BLM has received numerous complaints from citizens concerning the safety of recreational shooting adjacent to their homes. The frequency of complaints has risen with the construction of homes surrounding the public land. There are now many private homes in the immediate area. There is a commercial campground across the road from the BLM parcel. The BLM agrees with many of the local residents that the discharge of weapons on this public land does create a significant hazard to the public.

Prohibitions: No person shall discharge any firearm or any projectile weapon.

DATES: This prohibition shall take effect September 1, 2000 and expire on December 31, 2001.

FOR FURTHER INFORMATION CONTACT: Deane Swickard, Field Manager, 63 Natoma Street, Folsom, CA 95630, 916-985-4474.

SUPPLEMENTARY INFORMATION: The authority for this closure and restriction is contained in Title 43 of the Code of Federal Regulations, 8364.1. Any person who fails to comply with this closure and restriction order will be subject to a fine of up to $100,000 and/or up to 12 months imprisonment. These penalties are specified in 43 U.S.C. 303 and 18 U.S.C. 3623.

D.K. Swickard,
Field Manager.

[FR Doc. 00-22452 Filed 8-31-00; 8:45 am]

BILLING CODE 4310-40-P